DEPARTMENT OF HEALTH AND HUMAN SERVICES

Centers for Disease Control and Prevention

Statement of Organization, Functions and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 39178-39179, dated July 27, 2001) is amended to reorganize the Office of Management, NCHS.

Section C-B, Organization and Functions, is hereby amended as follows:

Delete in its entirety the functional statement for the Office of Management (HCS12) and insert the following:

Office of Management and Operations (HCS12). (1) Participates in the development of policy, long-range plans, and programs of the National Center for Health Statistics (NCHS); (2) plans, coordinates, directs, and conducts the management and administrative operations of the NCHS; (3) review and effectiveness and efficiency of the operation and administration of all programs of the Center; (4) conducts management and organizational analyses as well as provides consultation and advice on program reorganizations; (5) manages the NCHS performance appraisal systems; (6) develops and manages training, organizational and career development and incentive award programs; (7) develops and directs systems for personnel, procurement, information management, staff resources utilization, workforce planning and management by objectives; (8) plans, develops, and conducts Center-wide management information and executive information systems; (9) develops administrative policies and procedures; (10) develops and implements NCHS policies and procedures in the areas of information systems security; (11) conducts information system security audits to insure that all NCHS program adhere to and are in compliance with establish procedures and policies; (12) provides management services in the areas of delegations of authority, directives management, grants management, procurement management, and reports and records management; (13) serves as the NCHS contact on all matters associated with labor-management partnership activities; (14) administers the NCHS IRB activity; (15) provides facilities management and office services management for NCHS; (16) develops and directs a safety and health program for the Center; and (17) provides conference management services for NCHS.

Administrative Operations Activity (HCS122). (1) Plans, directs and coordinates facilities and office services management activities for the NCHS; (2) assures compliance with federal, state, and local government environmental, safety, and health regulations; (3) serves as liaison for building management activities with CDC, GSA, and other federal, state, and local government officials; (4) develops plans for expanded, modified, or renovated facilities; (5) provides project administration for contractual services; (6) provides physical security, parking, and conference management; (7) directs central administrative services including mail, supplies and copying management, shipping and receiving, property management, and messenger services for NCHS; (8) manages the Center's records, reports, and forms programs; (9) administers the NCHS grants activities; (10) provides guidance and staff support for major Center conferences and meetings; and (11) manages and administers the NCHS telecommunications systems.

Management Systems and Analysis Activity (HCS127). (1) Coordinates management information systems and analyses of data for improved utilization of Center resources; (2) directs systems analysis and design, programming, and systems training as it relates to implementation of new and existing administrative, management, and executive information systems; (3) recommends changes to improve information resources management efficiency and effectiveness; (4) develops, recommends, and provides advice on management policies, methods, directives, and procedures; (5) provides analysis, recommendations, and guidance related to the establishment or modification of organizational structure and functions; (6) conducts management analyses and surveys of NCHS programs and operations; (7) coordinates program and administrative delegations of authority; (8) conducts and coordinates NCHS-wide management improvement programs, including staff utilization, and productivity improvement; (9) negotiates solutions to intra- and inter-agency problems and issues in such areas as organization, functions, delegations, management regulations, and procedures; (10) serves as liaison to CDC and DHHS on programs to improve management and administration; (11) directs and coordinates the internal controls program within the Center; and (12) coordinates NCHS A-76 activities.

Delete in its entirety the functional statement for the Office of Data Standards, Program Development, and Extramural Programs (HCS12) and insert the following:

Office of Data Standards, Program Development, and Extramural Programs (HCS 16). (1) Participates in the development of policy, long-range plans, and programs of the Center; (2) develops proposed policies for the coordination of NCHS programs with external agencies, both public and private; (3) provides leadership, and serves as a focal point, for NCHS outreach efforts to organizations in the public and private sectors; serves as a focal point for developing collaborative statistical activities of NCHS with other organizations and agencies, and the development of public/private partnerships in health statistics; facilitates communication with outside agencies regarding program and policy issues; (4) provides a focus for program development and review of policy implications as related to emerging priority data needs of the country; coordinates the assessment of needs and the perspectives of other agencies; participates actively in program planning and policy development by reviewing the relevance of current and proposed programs to defined priorities of need and the requirements of other agencies and principal user groups; (5) evaluates or arranges for the evaluation of the adequacy, completeness, and responsiveness of Center programs both nationally and internationally to the NCHS mission and national priorities; (6) based on the results of evaluations, makes proposals for changes in NCHS programs or policies and collaborative enterprises; (7) assures leadership in the definition, development, and coordination of cooperative and collaborative programs in health statistics, working with state and local governments, and other organizations including the private and academic sectors in the development and strengthening of shared subnational statistical systems or services to the needs of the country; (8) conducts research, analyses, and demonstrations related to subnational systems; (9) provides scientific and technical support and Executive Secretariat services to the National Committee on Vital and Health Statistics (NCVHS), the legislatively-mandated advisory committee to the Secretary, DHHS; (10) provides for programmatic review and leadership for the NCHS Reimbursable Work Program; (11) provides advice and assistance to outside agencies and organizations in the conduct of statistical training activities; conducts training in key areas, as appropriate; and promotes appropriate training and educational materials for implementation and use of data sets and classification systems and for other purposes; (12) provides leadership and serves as advisor to the Director on policy issues related to data standards and classification systems; (13) provides scientific and technical advice to the DHHS Data Council on data standards and classification issues, and takes a leadership role in HHS-wide workgroups addressing such issues; (14) serves as NCHS's focal point to other organizations regarding efforts to develop minimum data sets, core data sets, data definitions, common approaches to medical and statistical terminology, and other standards-related efforts; (15) participates with appropriate agencies and organizations to promote the dissemination, adoption, and use of standards advocated by NCHS, DHHS, and the NCVHS; serves as a nucleus for data policy, data standards, and medical classification by fostering the collaborative development of tools and guidelines to enhance the integrity, comparability, quality, and usefulness of the data products from a wide variety of public and private agencies at the national and subnational levels; (16) assures and provides interface of data confidentiality, linkage, and security issues with other data policies and standards; (17) serves as the focal point and coordinator of U.S. Government activities related to the International Classification of Diseases (ICD) and maintains liaison with the World Health Organization through the direction of the WHO Collaborating Center for Classification of Diseases for North America working with appropriate programs throughout NCHS; and (18) provides a focus for enhancing collaborative activities in advancing the science and practice of health statistics, stimulating working arrangement with Universities, Schools of Public Health, Schools of Medicine and professional organizations of same; provides a focus for the development of a reliance upon NCHS data for research in these settings and provides leadership for graduate student training and interaction with NCHS.

Data Policy and Standards Staff (HCS162). (1) Provides a focus within NCHS for the development and continuing responsive modification of a conceptual framework for a broad-based definition of the basic health information systems of the country; (2) serves as a nucleus for data policy, data standards, and medical classification by fostering the collaborative development of tools and guidelines to enhance the integrity, comparability, quality, and usefulness of the data products from a wide variety of public and private agencies at the national and subnational levels; (3) establishes and maintains liaison and partnerships with Federal agencies within and outside DHHS and with a wide variety of private and professional organizations to promote uniformity in classifications, data sets, definitions, and related data policies and standards; (4) assures representation of NCHS and takes a leadership role on intra- and inter-agency task forces and committees reviewing and developing uniform data elements and data sets for diverse health care settings, nomenclatures and classifications; (5) serves as a focal point within NCHS for collaborative activities related to computer-based patient record development; (6) supports the Director, NCHS, as a member of the DHHS Data Council and coordinates NCHS staff support to the Data Council for data policy and standards activities; (7) serves as a focal point for programmatic and subject matter support of the NCVHS; (8) establishes and maintains liaison between NCVHS and agencies within DHHS, other governmental agencies, and relevant private and professional organizations; (9) directs and facilitates cross-cutting national data policy activities that involve multiple outside organizations and have important implications for NCHS and CDC programs; (10) provides liaison with standard-setting organizations on emerging data needs and on medical and health classification issues; (11) is responsible for overseeing, coordinating, evaluating, and formulating recommendations for the ICD Family of Classifications and related classifications, by providing the focus within NCHS for the development and execution of classification activities; (12) serves as the focal point and coordinator of U.S. Government activities related to the ICD and maintains liaison with the World Health Organization (WHO) through direction of the WHO Collaborating Center for the Classification of Diseases for North America; (13) provides advice and assistance within NCHS and to other agencies and organizations in the conduct of training activities related to data policies and standards; conducts training in key areas as appropriate; and promotes appropriate training and educational materials for implementation and use of data sets and classification systems; (14) assures comparability of morbidity classification, using current and subsequent versions of the ICD for morbidity, and recommends revisions to the ICD for morbidity applications as appropriate; (15) assumes full responsibility for the development and implementation of the evaluation program of NCHS for assessment of the adequacy, completeness, and responsiveness of Center programs both nationally and internationally to the NCHS mission and user needs for data; based on evaluations, makes proposals for changes in NCHS programs or policies; (16) assures and provides interface of data confidentiality, linkage, and security issues with other data policies and standards; and (17) participates with appropriate agencies and organizations to promote the dissemination, adoption, and use of data policies and standards advocated by NCHS, DHHS, and the NCVHS; develops comprehensive policy analyses and special reports, and newsletters.

Program Development Staff (HCS163). (1) Develops, pilots, and promotes programs, projects, and special activities to improve and quality, comparability, timeliness, and particularly, the relevance of data with emphasis on those aspects of data collection, analysis, interpretation, and dissemination that require collaboratively-supported systems involving public and private agencies, all levels of government and the international statistical community; (2) develops and conducts specialized workshops and conferences to build focused research capacities and foster networks of extramural researchers; (3) promotes public/private extramural funding opportunities through identifying common needs and developing innovative research strategies; (4) develops innovative training programs, materials, and substantive guidelines for use incollaboratively-sponsored and coordinated health statistics activities; (5) responds to unique requests for improved approaches or assistance in the planning and conduct of complex statistical enterprises, particularly those involving major policy issues, multiple agencies or levels of government, and operating at the intersect of public health practice and epidemiologic or statistical operations and research; (6) conducts other activities and participates in special projects selected to provide NCHS an opportunity for gaining definitive knowledge regarding major priority needs for data and major barriers to success in collaboratively-sponsored statistical enterprises, with emphasis on projects requiring data for subnational geographic areas and special populations and for multiple levels of government; (7) serves as the focal point for coordination of health statistical activities within NCHS as they relate to data needs and applications by other organizations or agencies; (8) provides program leadership for the NCHS Reimbursable Work Program including the private sector initiatives; (9) provides liaison with other federal departments and encourages interagency collaboration through the conduct of formal interagency meetings, seminars, workshops, and conferences which are designed to promote coordination of NCHS data systems with other federal, national, and international health systems; (10) participates in the dissemination, evaluation, and use of standard health data sets; (11) directs research and development related to data systems for community health profiles and other small area applications; (12) participates in the NCHS longitudinal studies program development and implementation; (13) designs and implements special studies related to other assigned functions; and (14) prepares committee charters and proposals for the establishment or termination of committees and subcommittees, prepares nominations for submission to the Secretary, DHHS,

Dated: April 4, 2002.
David W. Fleming,
Acting Director, CDC.

[FR Doc. 02-9247 Filed 4-16-02; 8:45 am]

BILLING CODE 4160-18-M